NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 16, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Centers for Disease Control and Prevention (N1-442-08-2, 3 items, 3 temporary items). Master files associated with an electronic information system used to record and audit telephone calls made by the general public and health professionals to agency contact centers.

2. Department of Homeland Security, Office for Civil Rights and Civil Liberties (N1-563-08-38, 4 items, 3 temporary items). Civil liberties impact assessment reports not deemed significant and clearance comments and working files associated with all civil liberties impact assessment reports. Proposed for permanent retention are significant civil liberties impact assessment reports.

3. Department of Homeland Security, U.S. Secret Service (N1-87-09-2, 2 items, 2 temporary items). Master files and duplicate data associated with an electronic information system that tracks the status of closed criminal cases.

4. Department of the Interior, Office of the Secretary (N1-48-08-11, 1 item, 1 temporary item). Master files of an electronic information system which maintains property inventories.

5. Department of the Interior, Bureau of Reclamation (N1-115-08-13, 4 items, 4 temporary items). Electronic records relating to water delivery and charge data that is used to track contract distribution and payment costs.

6. Department of the Interior, National Park Service (N1-79-08-3, 5 items, 4 temporary items). Records relating to the planning, design, construction, rehabilitation, restoration, and maintenance of non-historic facilities, utilities, and infrastructure. Proposed for permanent retention are files that relate to buildings, roads, and other permanent or long-term structures as well as planning and policy documents.

7. Department of the Interior, National Park Service (N1-79-08-4, 5 items, 3 temporary items). Records relating to the management of services such as lodging, food, transportation, and recreation provided for park visitors under commercial service contracts and leases. Proposed for permanent retention are records relating to significant policies and procedures as well as files that document the management of significant commercial service contracts and leases.

8. Department of the Interior, U.S. Geological Survey (N1-57-08-6, 61 items, 50 temporary items). Records associated with such administrative housekeeping functions as emergency planning, safety, security, environmental management, and property management as well as audiovisual records and publishing records. Included are such records as personnel security records, classified information records, exposure and industrial hygiene records, environmental management, permitting, and compliance records, and museum general management and accountability files. Proposed for permanent retention are such records as agency-sponsored and mission-related motion picture and video records, unedited stock footage, acquired motion pictures, and electronic records associated with the Electronic Publications Database System.

9. Department of Justice, Justice Management Division (N1-60-09-8, 2 items, 2 temporary items). Inputs and master files for an electronic information system used to track applications for the Attorney General's Honors Program and the Summer Law Intern Program.

10. Department of Justice, Office of Community Oriented Policing Services (N1-60-09-7, 1 item, 1 temporary item). Master files for an electronic information system used to track the approval and administration of grant requests.

11. Department of Justice, Bureau of Prisons (N1-129-09-1, 2 items, 2 temporary items). Electronic records associated with an electronic information system that contains drawings of products produced by Federal prison industries, such as clothing, office furniture, and industrial products.

12. Department of Justice, Bureau of Prisons (N1-129-09-5, 2 items, 2 temporary items). Master files and outputs of an electronic information system used to maintain control over keys, locks, weapons, and other equipment.

13. Department of Transportation, Federal Highway Administration (N1-406-08-5, 6 items, 5 temporary items). Administrative files, reference materials, transportation security program project files and working papers, and public-private partnership program files. Proposed for permanent retention are correspondence files accumulated by the agency's Administrator, Deputy Administrator, and Executive Director.

14. Railroad Retirement Board, Office of Programs (N1-184-08-3, 5 items, 5 temporary items). Electronic records associated with payments and services provided in accordance with the Railroad Unemployment Insurance Act.

Dated: February 6, 2009.
Michael J. Kurtz,
Assistant Archivist for Records Services—Washington, DC.

[FR Doc. E9-3081 Filed 2-11-09; 8:45 am]

BILLING CODE 7515-01-P